Title 3—

The President

Proclamation 7607 of October 10, 2002

General Pulaski Memorial Day, 2002

By the President of the United States of America

A Proclamation

Americans celebrate our friendship and common commitment to freedom with the people of Poland each year on October 11, when we honor Brigadier General Casimir Pulaski, a hero of the American Revolutionary War. As a brave Polish patriot, General Pulaski made the ultimate sacrifice for our Nation, giving his life in 1779 to help America gain its independence. His devotion to liberty continues to inspire us today as we join with our allies to secure peace and freedom around the globe.

Before joining the American Revolution in 1777, Casimir Pulaski struggled against oppression in his native Poland, fighting alongside his father and brothers to defend their homeland from Prussian and Imperial Russian invaders. Though his cause was ultimately overcome by those powerful forces, Pulaski was widely recognized for his courageous actions as a cavalry officer and leader of Polish forces. Benjamin Franklin lauded Pulaski as “famous throughout Europe for his bravery and conduct in defense of the liberties of his country.”

When General Pulaski joined General George Washington's staff, he immediately made important contributions to the war effort. He led a critical counterattack at the Battle of Brandywine that avoided a potential military disaster, earning him a commission as a Brigadier General. American leaders valued Pulaski's experience in battle, his knowledge of military strategy, and his pioneering efforts that led to a recognition that he was the “Father of the American cavalry.” While leading cavalry forces in the Siege of Savannah, Pulaski was wounded, and died on October 11, 1779.

Two hundred and twenty-five years ago, Casimir Pulaski joined forces with Americans to establish liberty and overcome despotism. That inspiration and solidarity is mirrored today as we engage in a war against terrorism. As part of a global coalition, which includes the government and people of Poland, we are working to ensure that our two nations remain strong friends and allies in our effort to build a safer, more peaceful world for all.

NOW, THEREFORE, I, GEORGE W. BUSH, President of the United States of America, by virtue of the authority vested in me by the Constitution and laws of the United States, do hereby proclaim Friday, October 11, 2002, as General Pulaski Memorial Day. I encourage all Americans to commemorate this occasion with appropriate programs and activities paying tribute to Casimir Pulaski and honoring all those who defend the freedom of our great Nation.

IN WITNESS WHEREOF, I have hereunto set my hand this tenth day of October, in the year of our Lord two thousand two, and of the Independence of the United States of America the two hundred and twenty-seventh.

B

[FR Doc. 02-26521

Filed 10-15-02; 8:45 am]

Billing code 3195-01-P